DEPARTMENT OF HOUSING AND URBAN DEVELOPMENT

[Docket No. FR-4950-C-34]

Notice of HUD's Fiscal Year (FY) 2005 Notice of Funding Availability, Policy Requirements and General Section to SuperNOFA for HUD's Discretionary Grant Programs; Correction

AGENCY: Office of the Secretary, HUD.

ACTION: Super Notice of Funding Availability (SuperNOFA) for HUD Discretionary Grant Programs; correction.

SUMMARY: On March 21, 2005 HUD published its Fiscal Year (FY) 2005, Notice of Funding Availability (NOFA), Policy Requirements and General Section to the SuperNOFA for HUD's Discretionary Grant Programs. This document makes a correction to the Rural Housing and Economic Development Program.

DATES: The application submission date for the Rural Housing and Economic Development Program is May 17, 2005.

FOR FURTHER INFORMATION CONTACT: For information concerning the HUD Rural Housing and Economic Development program, contact Mr. Thann Young, Program Specialist, or Ms. Linda L. Streets, Community Development Specialist, Office of Rural Housing and Economic Development, Office of Community Planning and Development, Department of Housing and Urban Development, 451 Seventh Street, SW., Room 7137, Washington, DC 20410-7000; telephone 202-708-2290 (this is not a toll-free number). Persons with speech or hearing impairments may access this number via TTY by calling the toll-free Federal Information Relay Service at 800-877-8339.

SUPPLEMENTARY INFORMATION: On March 21, 2005 (70 FR 13575), HUD published its Notice of HUD's Fiscal Year (FY) 2005, Notice of Funding Availability (NOFA), Policy Requirements and General Section to the SuperNOFA for HUD's Discretionary Grant Programs. The FY2005 SuperNOFA announced the availability of approximately $2.26 billion in HUD assistance. This notice published in today's Federal Register makes a technical correction to the Rural Housing and Economic Development Program.

Rural Housing and Economic Development [70 FR 14012]

On page 14017, in the third column of the table, HUD reported that applications were to be submitted on May 20, 2005, however, consistent with Appendix A of the General Section at page 13597 and page 14013, section F, first column of this program section, the actual date is May 17, 2005.

Accordingly, in the Notice of HUD's Fiscal Year (FY) 2005, Notice of Funding Availability (NOFA), Policy Requirements and General Section to the SuperNOFA for HUD's Discretionary Grant Programs, beginning at 70 FR 13575, in the issue of March 21, 2005, the following correction is made.

Rural Housing and Economic Development, beginning at page 14012: On page 14017, in the third column of the table, remove the date, May 20, 2005 and add in its place the date, May 17, 2005.

Aaron Santa Anna,
Assistant General Counsel for Regulations.

[FR Doc. 05-9420 Filed 5-10-05; 8:45 am]

BILLING CODE 4210-32-P